NUCLEAR REGULATORY COMMISSION

[NRC-2024-0171]

Update to the Performance Review Board for Senior Executive Service

AGENCY: Nuclear Regulatory Commission.

ACTION: Appointments.

SUMMARY: On October 1, 2024, the U.S. Nuclear Regulatory Commission (NRC) announced appointments to the NRC Performance Review Board (PRB) responsible for making recommendations on performance appraisal ratings and performance awards for NRC Senior Executives and Senior Level System employees. This notice provides an update to the list of PRB member appointees.

DATES: November 4, 2024.

ADDRESSES: Please refer to Docket ID NRC-2024-0171 when contacting the NRC about the availability of information regarding this document. You may obtain publicly available information related to this document using any of the following methods:

• Federal Rulemaking Website: Go to https://www.regulations.gov and search for Docket ID NRC-2024-0171. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jennifer M. Golder, Secretary, Executive Resources Board, U.S. Nuclear Regulatory Commission, Washington, DC 20555-0001; telephone: 301-287-0741, email: Jennifer.Golder@nrc.gov.

SUPPLEMENTARY INFORMATION: On October 1, 2024, the NRC published a notice announcing members to the NRC PRB (89 FR 79976). Since then, the NRC has added one new member to list of PRB member appointees. The following individual, appointed as a member of the NRC PRB, is responsible for making recommendations to the appointing and awarding authorities on performance appraisal ratings and performance awards for Senior Executives and Senior Level System employees:

• Robert J. Lewis Deputy Executive Director for Materials, Waste, Research, State, Tribal, Compliance, Administration, and Human Capital Programs, Office of the Executive Director for Operations.

All appointments are made pursuant to chapter 43 of title 5 of the United States Code, section 4314.

Dated: October 30, 2024.
For the Nuclear Regulatory Commission.
Jennifer M. Golder,
Secretary, Executive Resources Board.

[FR Doc. 2024-25578 Filed 11-1-24; 8:45 am]

BILLING CODE 7590-01-P